DEPARTMENT OF COMMERCE

National Oceanic and Atmospheric Administration

50 CFR Part 660

[Docket No. 100804324-1265-02]

RIN 0648-BC02

Magnuson-Stevens Act Provisions; Fisheries off West Coast States; Biennial Specifications and Management Measures; Inseason Adjustments

AGENCY: National Marine Fisheries Service (NMFS), National Oceanic and Atmospheric Administration (NOAA), Commerce.

ACTION: Final rule; inseason adjustments to biennial groundfish management measures; request for comments.

SUMMARY: This final rule announces inseason changes to management measures in the Pacific Coast groundfish fisheries. These actions, which are authorized by the Pacific Coast Groundfish Fishery Management Plan (FMP), are intended to allow fisheries to access more abundant groundfish stocks while protecting overfished and depleted stocks.

DATES: Effective 0001 hours (local time) May 1, 2012. Comments on this final rule must be received no later than May 17, 2012.

ADDRESSES: You may submit comments, identified by FDMS docket number NOAA-NMFS-2010-0194 by any one of the following methods:

• Electronic Submissions: Submit all electronic public comments via the Federal eRulemaking Portal http://www.regulations.gov.

• Fax: 206-526-6736, Attn: Colby Brady

• Mail: William W. Stelle, Jr., Regional Administrator, Northwest Region, NMFS, 7600 Sand Point Way NE., Seattle, WA 98115-0070, Attn: Colby Brady.

Instructions: All comments received are a part of the public record and will generally be posted to http://www.regulations.gov without change. All Personal Identifying Information (for example, name, address, etc.) voluntarily submitted by the commenter may be publicly accessible. Do not submit Confidential Business Information or otherwise sensitive or protected information.

NMFS will accept anonymous comments (enter N/A in the required fields, if you wish to remain anonymous). You may submit attachments to electronic comments in Microsoft Word, Excel, WordPerfect, or Adobe PDF file formats only.

FOR FURTHER INFORMATION CONTACT: Colby Brady (Northwest Region, NMFS), phone: 206-526-6117, fax: 206-526-6736, colby.brady@noaa.gov.

SUPPLEMENTARY INFORMATION:

Electronic Access

This final rule is accessible via the Internet at the Office of the Federal Register's Web site at http://www.gpo.gov/fdsys/search/home.action. Background information and documents are available at the Pacific Fishery Management Council's Web site at http://www.pcouncil.org/.

Background

The Pacific Coast Groundfish FMP and its implementing regulations at title 50 in the Code of Federal Regulations (CFR), part 660, subparts C through G, regulate fishing for over 90 species of groundfish off the coasts of Washington, Oregon, and California. Groundfish specifications and management measures are developed by the Pacific Fishery Management Council (Council), and are implemented by NMFS.

On November 3, 2010, NMFS published a proposed rule to implement the 2011-2012 harvest specifications and management measures for most species of the Pacific Coast groundfish fishery (75 FR 67810). The final rule to implement the 2011-12 harvest specifications and management measures for most species of the Pacific Coast Groundfish Fishery was published on May 11, 2011 (76 FR 27508). This final rule was subsequently amended by several inseason actions (76 FR 39313, 76 FR 67092, 76 FR 79122, 77 FR 12503). On September 27, 2011, NMFS published a proposed rule to implement final 2012 specifications for overfished species and assessed flatfish species pursuant to Secretarial Amendment 1 to the Groundfish FMP (76 FR 59634). That final rule was effective January 1, 2012. These specifications and management measures are codified in the CFR (50 CFR part 660, subparts C through G).

Changes to current groundfish management measures implemented by this action were recommended by the Council, in consultation with the States of Washington, Oregon, and California, at its March 2-March 7, 2012, meeting in Sacramento, California. The Council recommended adjusting the biennial groundfish management measures for the remainder of the biennial period to respond to updated fishery information and an additional inseason management need to adjust the trawl RCA boundaries. The adjustment to fishery management measures are not expected to result in greater impacts to overfished species than originally projected through the end of 2012. Estimated mortality of overfished and target species are the result of management measures designed to achieve, to the extent possible, but not exceed, annual catch limits (ACLs) of target species while fostering the rebuilding of overfished stocks by remaining within their rebuilding ACLs.

Trawl Rockfish Conservation Area

The Council recommended, and NMFS is implementing, an adjustment to the shoreward line of the trawl Rockfish Conservation Area (RCA) in Washington State, south of Cape Alava and in northern California, north Cape Mendocino from the 75 fathom line (137-m) to the 100 fathom line (183-m) during Period 3, (May 1-June 30) and Period 5, (September 1-August 31) from 40°10′ N. lat. to 48°10′ N. lat.

The Council received a request to review the effects of an adjustment to the shoreward boundary line of the trawl RCA south of 48°10′ N. lat and north of 40°10′ N. lat. from 75 fm to 100 fm for Period 3 (May 1-June 30) and Period 5 (September 1-October 31) to open some additional shelf areas. The Council considered time-weighted historical average bycatch rates stratified by depth and newly available observer data for this area in Periods 3 and 5, in the area shoreward of 100 fm, verses the area shoreward of 75 fm, which did indicate that the probability of encountering canary rockfish, darkblotched rockfish, Pacific ocean perch (POP), and yelloweye rockfish could be higher than if status quo shoreward boundaries remained in place. However, attainments of ACLs for these rebuilding species was low under IFQ management in 2011, and attainments of ACLs are currently (through March 5, 2012) tracking low in 2012 (0.6%, 5.8%, 2.9% and 0.2% respectively). Finally, the Council considered the potential positive impact of individual accountability, a goal of the trawl rationalization program, when making the decision to adjust the shoreward line of the trawl Rockfish Conservation Area (RCA).

Therefore, the Council recommended, and NMFS is implementing a shift to the shoreward line of the trawl Rockfish Conservation Area (RCA) in Washington State, south of Cape Alava and in northern California, north Cape Mendocino from the 75 fathom line (137-m) to the 100 fathom line (183-m) during Period 3 (May 1-June 30), and Period 5 (September 1-August 31), from 40°10′ N. lat. to 48°10′ N. lat.

Classification

This final rule makes routine inseason adjustments to groundfish fishery management measures based on the best available information and is taken pursuant to the regulations implementing the Pacific Coast Groundfish FMP.

This action is taken under the authority of 50 CFR 660.60(c) and is exempt from review under Executive Order 12866.

This inseason adjustment is also taken under the authority of the Magnuson-Stevens Fishery Conservation and Management Act (Magnuson-Stevens Act), and is in accordance with 50 CFR part 660, the regulations implementing the FMP. This action is based on the most recent information available.

For the following reasons, NMFS finds good cause to waive prior public notice and comment on the revisions to groundfish management measures under 5 U.S.C. 553(b)(3)(B) because notice and comment would be impracticable and contrary to the public interest. Also, for the same reasons, NMFS finds good cause to waive the 30-day delay in effectiveness pursuant to 5 U.S.C. 553(d)(3), so that this final rule may become effective as quickly as possible.

The recently available information upon which the changes to the trawl Rockfish Conservation Area (RCA) management measure changes are based was originally provided to the Council, and the Council made its recommendations, at its March 2-7, 2012. The Council recommended that these changes be implemented by May 1, 2012. For the actions to be implemented in this final rule, affording the time necessary for prior notice and opportunity for public comment would prevent NMFS from managing fisheries using the best available science to approach, without exceeding, the ACLs for federally managed species in accordance with the FMP and applicable laws. The adjustments to management measures in this document affect commercial fisheries off northern California to Washington State.

These adjustments to management measures must be implemented in a timely manner to allow fishermen north of 40°10′ N. lat. to prosecute their intended fishing strategies under trawl rationalization. If this rule is not implemented immediately, the public could have incorrect information regarding boundaries used, and allowed fishing activities for groundfish fisheries management, which would cause confusion and be inconsistent with the intent of the Council. It would be contrary to the public interest to delay implementation of these changes until after public notice and comment, because making this regulatory change immediately allows harvest as intended by the Council in fisheries that are important to coastal communities in a manner that prevents ACLs of overfished species from being exceeded.

No aspect of this action is controversial and no change in operating practices in the fishery is required from those intended in this inseason adjustment.

Delaying these changes would also keep management measures in place that are not based on the best available information. Accordingly, for the reasons stated above, NMFS finds good cause to partially waive prior notice and comment and the delay in effectiveness.

List of Subjects in 50 CFR Part 660

Fisheries, Fishing, Indian Fisheries.

Dated: April 12, 2012.
Carrie Selberg,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Table 1 (North) to part 660, subpart D is revised to read as follows:

BILLING CODE 3510-22-P

[FR Doc. 2012-9248 Filed 4-16-12; 8:45 am]

BILLING CODE 3510-22-C